DEPARTMENT OF HOMELAND SECURITY

Coast Guard

33 CFR Part 117

[Docket No. USCG-2016-0668]

Drawbridge Operation Regulation; James River, Hopewell, VA

AGENCY: Coast Guard, DHS.

ACTION: Notice of temporary deviation from drawbridge regulation; modification.

SUMMARY: The Coast Guard has modified a temporary deviation from the operating schedule that governs the SR 156/Benjamin Harrison Memorial Bridge across the James River, mile 65.0, at Hopewell, VA. This modified deviation is necessary to extend the deviation timeframe to perform bridge maintenance and repairs. This modified deviation allows the bridge to remain in the closed-to-navigation position.

DATES: This modified deviation is effective without actual notice from September 29, 2016 through 6 a.m. on October 28, 2016. For the purposes of enforcement, actual notice will be used from September 22, 2016, 8:45 a.m., until September 29, 2016.

ADDRESSES: The docket for this deviation, [USCG-2016-0668] is available at http://www.regulations.gov. Type the docket number in the “SEARCH” box and click “SEARCH”. Click on Open Docket Folder on the line associated with this deviation.

FOR FURTHER INFORMATION CONTACT: If you have questions on this modified temporary deviation, call or email Mr. Michael R. Thorogood, Bridge Administration Branch Fifth District, Coast Guard, telephone 757-398-6557, email Michael.R.Thorogood@uscg.mil.

SUPPLEMENTARY INFORMATION: On July 25, 2016, the Coast Guard published a temporary deviation entitled “Drawbridge Operation Regulation; James River, Hopewell, VA” in the Federal Register (81 FR 49898). Under that temporary deviation, the bridge would be maintained in the closed-to-navigation position from 8 p.m. through 6 a.m.; Monday through Thursday; July 25, 2016, through July 29, 2016; August 1, 2016, through August 5, 2016; September 5, 2016, through September 9, 2016; September 12, 2016, through September 16, 2016; and alternative dates from September 19, 2016, through September 23, 2016; and September 26, 2016, through September 30, 2016. The bridge would open for vessels on signal during scheduled closure periods, if at least 24 hours notice was given.

The Virginia Department of Transportation, who owns and operates the SR 156/Benjamin Harrison Memorial Bridge, has requested a modified temporary deviation from the currently published deviation to extend the deviation timeframe to facilitate replacement of the service elevators for both lift towers, install new electrical wiring, bird screens, and structural steel of the bridge. The current operating schedule is open on signal as set out in 33 CFR 117.5. This modified temporary deviation serves to replace the previous temporary deviation in the Federal Register (81 FR 49898), immediately upon its publication into the Federal Register.

Under this modified temporary deviation, the bridge will be maintained in the closed-to-navigation position from 8 p.m. through 6 a.m.; Monday through Friday; October 3, 2016, through October 7, 2016; October 10, 2016, through October 14, 2016; October 17, 2016, through October 21, 2016; and October 24, 2016, through October 28, 2016. The bridge will open for vessels on signal during scheduled closure periods, if at least 10 hours notice is given. The bridge is a vertical lift drawbridge and has a vertical clearance in the closed position of 50 feet above mean high water.

The James River is used by a variety of vessels including deep-draft vessels, tug and barge traffic, and recreational vessels. The Coast Guard has carefully coordinated the restrictions with waterway users in publishing this temporary deviation.

Vessels able to pass through the bridge in the closed-to-navigation position may do so at anytime. The bridge will be able to open for emergencies during scheduled closure periods, if at least 30 minutes notice is given. There is no immediate alternative route for vessels unable to pass through the bridge in the closed position. The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: September 22, 2016.
Hal R. Pitts,
Bridge Program Manager, Fifth Coast Guard District.

[FR Doc. 2016-23508 Filed 9-28-16; 8:45 am]

BILLING CODE 9110-04-P